COMMODITY FUTURES TRADING COMMISSION

17 CFR Part 11

Delegation of Authority to the Director of the Division of Enforcement To Institute Subpoena Enforcement Proceedings

Correction

In rule document 02-13300 beginning on page 37322 in the issue of Wednesday, May 29, 2002, make the following correction:

On page 37322, in the first column, under “EFFECTIVE DATE” “June 28, 2002” should read “May 29, 2002”.

[FR Doc. C2-13300 Filed 6-6-02; 8:45 am]

BILLING CODE 1505-01-D

DEPARTMENT OF DEFENSE

GENERAL SERVICES ADMINISTRATION

NATIONAL AERONAUTICS AND SPACE ADMINISTRATION

[OMB Control No. 9000-0069]

Federal Aquisiton Regulation; Information Collection; Indirect Cost Rates

Correction

In notice document 02-9720 beginning on page 19558 in the issue of Monday, April 22, 2002, make the following correction:

On page 19559, in the first column, under “DATES” “May 22, 2002” should read “June 21, 2002”.

[FR Doc. C2-9720 Filed 6-6-02; 8:45 am]

BILLING CODE 1505-01-D

ENVIRONMENTAL PROTECTION AGENCY

40 CFR Part 52

[MT-001-0007, MT-001-0008, MT-001-0009 and MT-001-0010; FRL-7175-1]

Approval and Promulgation of Air Quality Implementation Plans; Montana; Billings/Laurel Sulfur Dioxide State Implementation Plan

Correction

In rule document 02-10332 beginning on page 22168 in the issue of Thursday, May 2, 2002, make the following correction:

On page 22204, in the first column, in footnote “²²”, in the tenth line, “1000 ppm” should read, “100 ppm”.

[FR Doc. C2-10332 Filed 6-6-02; 8:45 am]

BILLING CODE 1505-01-D

NATIONAL ARCHIVES AND RECORDS ADMINISTRATION

36 CFR Part 1230

RIN 3095-AB06

Micrographic Records Management

Correction

In rule document 02-10588, originally printed Thursday, May 9, 2002 at 67 FR 31692-31697, and reprinted as R2-10588, Tuesday, May 14, 2002 at 67 FR 34574-34579, make the following correction:

§1230.2 [Corrected]

On page 34575, column two, §1230.2 is correctly added to read as follows:

§ 1230.2 What is the authority for this part?

44 U.S.C. chapters 29 and 33, authorize the Archivist of the United States to:

(a) Establish standards for copying records by photographic and microphotographic means;

(b) Establish standards for the creation, storage, use, and disposition of microform records in Federal agencies; and

(c) Provide centralized microfilming services for Federal agencies.

[FR Doc. C2-10588 Filed 6-6-02; 8:45 am]

BILLING CODE 1505-01-D

DEPARTMENT OF TRANSPORTATION

Federal Aviation Administration

14 CFR Part 71

[Airspace Docket No. 02-ACE-5]

Amendment to Class E Airspace; Fremont, NE

Correction

In rule document 02-13549 beginning on page 37667 in the issue of Thursday, May 30, 2002, make the following corrections:

1. On page 37668, in the first column, under the heading SUPPLEMENTARY INFORMATION:, in the ninth line from the bottom, “fee” should read “feet”.

2. On the same page, in the second column, in the fifth line “of” should read “on”.

§ 71.1 [Corrected]

3. On the same page, in the third column, in § 71.1, the heading “ACE NE E55 Fremont, NE [Revised]” should read “ACE NE E5 Fremont, NE [Revised]”.

[FR Doc. C2-13549 Filed 6-6-02; 8:45 am]

BILLING CODE 1505-01-D